DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing to achieve expeditious commercialization of results of federally-funded research and development. Foreign patent applications are filed on selected inventions to extend market coverage for companies and may also be available for licensing.

FOR FURTHER INFORMATION CONTACT: Chris Kornak, 240-627-3705, chris.kornak@nih.gov. Licensing information and copies of the U.S. patent applications listed below may be obtained by communicating with the indicated licensing contact at the Technology Transfer and Intellectual Property Office (TTIPO), 5601 Fishers Lane, Suite 6D, MSC 9804, Rockville, MD 20892, tel: 301-496-2644, fax: 240-627-3117. A signed Confidential Disclosure Agreement will be required to receive copies of unpublished patent applications.

SUPPLEMENTARY INFORMATION: Technology descriptions follow.

Research Material: A Potent, Broadly-Neutralizing, Anti-HIV Antibody (35O22) That Binds a Novel Epitope

Description of Technology: Millions of people are infected with HIV-1 worldwide. In the U.S., there are about 30,000 new cases of HIV infection reported annually. Researchers at NIAID are actively investigating broadly neutralizing anti-HIV-1 antibodies which can be used as therapeutics or prophylactics for HIV infection.

NIAID and Scripps researchers have discovered a potent anti-HIV antibody (35O22) that binds a novel HIV epitope. This antibody neutralizes at least 80% of HIV isolates tested so far. The unique binding of 35O22 makes it an attractive candidate to combine with other HIV antibodies or antivirals in treating or preventing HIV infection.

This technology is available for licensing for commercial development in accordance with 35 U.S.C. 209 and 37 CFR part 404, as well as for further development and evaluation under a research collaboration.

Potential Commercial Applications:

• HIV-1 therapeutics

• HIV-1 prophylactics

Competitive Advantages:

• Unique epitope

• Broad neutralization of HIV isolates

Development Stage: Pre-Clinical.

Inventors: Mark Connors, John Mascola, Peter Kwong, Tongqing Zhou, Jinghe Huang, Byong Ha Kang, all of NIAID, NIH; Andrew Ward, Scripps Research Institute.

Publications: Huang, J et al., Broad and potent HIV-1 neutralization by a human antibody that binds the gp41-gp120 interface. Nature 515, 138-142.

Intellectual Property: Not applicable.

Licensing Contact: Chris Kornak, 240-627-3705, chris.kornak@nih.gov.

Collaborative Research Opportunity: The Technology Transfer and Intellectual Property Office (TTIPO) is seeking parties interested in collaborative research to further develop 35O22 in combination with other NIAID antibodies. For collaboration opportunities, please contact Chris Kornak, 240-627-3705, chris.kornak@nih.gov.

Dated: September 12, 2017.
Suzanne Frisbie,
Deputy Director, Technology Transfer and Intellectual Property Office, National Institute of Allergy and Infectious Diseases.

[FR Doc. 2017-20232 Filed 9-21-17; 8:45 am]

BILLING CODE 4140-01-P